DEPARTMENT OF ENERGY

[OE Docket No. EA-483]

Application to Export Electric Energy; Fuel Market LP

AGENCY: Office of Electricity, Department of Energy.

ACTION: Notice of application.

SUMMARY: Fuel Market LP (Applicant or Fuel Market LP) has applied for authorization to transmit electric energy from the United States to Mexico pursuant to the Federal Power Act.

DATES: Comments, protests, or motions to intervene must be submitted on or before July 20, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On June 9, 2020, Fuel Market LP filed an application with DOE (Application or App.) to transmit electric energy from the United States to Mexico for a term of five years. Fuel Market LP states that it “is a Texas corporation, with its principal place of business in Houston [Texas].” App. at 1. Fuel Market LP adds that it “does not own or control any electric power generation or transmission facilities and does not have a franchised electric power service area.” Id. at 2.

Fuel Market LP further states that it “will purchase surplus electric energy from electric utilities and other suppliers within the United States and will export this energy to Mexico over the international electric transmission facilities . . . listed in Exhibit C.” App. at 3. Fuel Market LP contends that “[b]ecause this electric energy will be purchased from other voluntarily, it will be surplus to the needs of the selling entities [and, therefore, the proposed] export of power will not impair the sufficiency of electric power supply in the U.S.” Id.

Fuel Market LP also “agrees to abide by the export limits of [approved] transmission facilities” and states that “[t]he controls that are inherent in any transaction that compiles with all [reliability] requirements and the export limits imposed by DOE on the references transmission facilities are sufficient to ensure that export by Fuel Market LP will not impede or tend to impede the coordinated use of transmission facilities” under the Federal Power Act. App. at 4.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Fuel Market LP's application to export electric energy to Mexico should be clearly marked with OE Docket No. EA-483. Additional copies are to be provided directly to Genaro Gomez, 4545 Post Oak Place Drive, Suite 217, Houston, Texas 77027; genaro@gfint.com.

A final decision will be made on this Application after the environmental impacts have been evaluated pursuant to DOE's National Environmental Policy Act Implementing Procedures (10 CFR part 1021) and after DOE determines that the proposed action will not have an adverse impact on the sufficiency of supply or reliability of the U.S. electric power supply system.

Copies of this Application will be made available, upon request, by accessing the program website at http://energy.gov/node/11845, or by emailing Matthew Aronoff at matthew.aronoff@hq.doe.gov.

Signed in Washington, DC, on June 15, 2020.
Christopher Lawrence,
Management and Program Analyst, Transmission Permitting and Technical Assistance, Office of Electricity.

[FR Doc. 2020-13234 Filed 6-18-20; 8:45 am]

BILLING CODE 6450-01-P